FEDERAL COMMUNICATIONS COMMISSION

47 CFR Part 73

[DA 00-2014; MM Docket No. 00-17; RM-9814]

Radio Broadcasting Services; Andalusia, AL and Holt, FL

AGENCY: Federal Communications Commission.

ACTION: Final rule.

SUMMARY: In response to a proposal filed on behalf of Capstar TX Limited Partnership, the Commission reallots Channel 251C1 from Andalusia, Alabama, to Holt, Florida, as that community's first local aural transmission service, and modifies the license for Station WTKE(FM) to specify Holt as its community of license. See 65 FR 7817, February 16, 2000. Coordinates used for Channel 251C1 at Holt, Florida, are 30-59-57 NL and 86-41-20 WL.

DATES: Effective October 16, 2000.

ADDRESSES: Federal Communications Commission, Washington, DC 20554.

FOR FURTHER INFORMATION CONTACT: Nancy Joyner, Mass Media Bureau, (202) 418-2180.

SUPPLEMENTARY INFORMATION: This is a synopsis of the Commission's Report and Order, MM Docket No. 00-17, adopted August 23, 2000, and released September 1, 2000. The full text of this Commission decision is available for inspection and copying during normal business hours in the FCC's Reference Information Center (Room CY-A257), 445 Twelfth Street, SW., Washington, DC. The complete text of this decision may also be purchased from the Commission's copy contractor, International Transcription Service, Inc., 1231 20th Street, NW., Washington, DC 20036, (202) 857-3800.

List of Subjects in 47 CFR Part 73

Radio broadcasting.

Part 73 of title 47 of the Code of Federal Regulations is amended as follows:

PART 73—[AMENDED]

1. The authority citation for part 73 continues to read as follows:

Authority: 47 U.S.C. 154, 303, 334, 336.

§ 73.202 [Amended]

2. Section 73.202(b), the Table of FM Allotments under Alabama, is amended by removing Channel 251C1 at Andalusia.

3. Section 73.202(b), the Table of FM Allotments under Florida, is amended by adding Holt, Channel 251C1.

Federal Communications Commission.
John A. Karousos,
Chief, Allocations Branch, Policy and Rules Division, Mass Media Bureau.

[FR Doc. 00-23698 Filed 9-14-00; 8:45 am]

BILLING CODE 6712-01-P